NUCLEAR REGULATORY COMMISSION

[Docket No. 50-289]

Amergen Energy Company, LLC; Notice of Receipt and Availability of Application for Renewal of Three Mile Island Nuclear Station, Unit 1, Facility Operating License No. DPR-50 for an Additional 20-Year Period

The U.S. Nuclear Regulatory Commission (NRC or Commission) has received an application, dated January 8, 2008, from AmerGen Energy Company, LLC, filed pursuant to section 104b of the Atomic Energy Act of 1954, as amended, and Title 10 of the Code of Federal Regulations part 54 (10 CFR part 54), to renew the operating license for the Three Mile Island Nuclear Station (TMI), Unit 1. Renewal of the license would authorize the applicant to operate the facility for an additional 20-year period beyond the period specified in the current operating license. The current operating license for TMI, Unit 1, (DPR-50), expires on April 19, 2014. TMI, Unit 1, is a Pressurized-Water Reactor designed by Babcock & Wilcox that is located near Middletown, PA. The acceptability of the tendered application for docketing, and other matters including an opportunity to request a hearing, will be the subject of subsequent Federal Register notices.

Copies of the application are available to the public at the Commission's Public Document Room (PDR), located at One White Flint North, 11555 Rockville Pike, Rockville, Maryland 20852 or through the Internet from the NRC's Agencywide Documents Access and Management System (ADAMS) Public Electronic Reading Room under Accession Number ML080220207. The ADAMS Public Electronic Reading Room is accessible from the NRC web site at http://www.nrc.gov/reading-rm/adams.html. In addition, the application is available at http://www.nrc.gov/reactors/operating/licensing/renewal/applications.html. Persons who do not have access to the internet or who encounter problems in accessing the documents located in ADAMS should contact the NRC's PDR Reference staff at 1-800-397-4209, extension 4737, or by e-mail to pdr@nrc.gov.

A copy of the license renewal application for the TMI, Unit 1, is also available to local residents near the site at the Middletown Public Library, 20 North Catherine St., Middletown, PA 17057, and at the Penn State Harrisburg Library, 351 Olmsted Drive, Middletown, PA 17057.

Dated at Rockville, Maryland, this 25th day of January 2008.
For the Nuclear Regulatory Commission.
Samson Lee,
Deputy Director, Division of License Renewal, Office of Nuclear Reactor Regulation.

[FR Doc. E8-1802 Filed 1-30-08; 8:45 am]

BILLING CODE 7590-01-P